DEPARTMENT OF HEALTH AND HUMAN SERVICES

Centers for Disease Control and Prevention

Availability of Draft Technical Report of a Feasibility Study of the Health Consequences to the American Population of Nuclear Weapons Tests Conducted by the United States and Other Nations

AGENCY: Centers for Disease Control and Prevention (CDC), Department of Health and Human Services (HHS).

ACTION: Notice of availability and request for comments.

SUMMARY: In 1998, the Congress requested that the Department of Health and Human Services (HHS) conduct an initial assessment of the feasibility and public health implications of a detailed study of the health impact on the American people of radioactive fallout from the testing of nuclear weapons. This request resulted in a joint project by scientists at the Centers for Disease Control and Prevention (CDC) and at the National Cancer Institute (NCI).

This notice announces that a 2-volume Technical Report providing details on the scientific methods and conclusions of this feasibility project is now available for public comment. This project has, for the first time, estimated preliminary doses to representative persons in all counties of the contiguous United States for a set of important radionuclides produced as a result of nuclear weapons testing from 1951 through 1962 by the United States and other nations. The work that has now been completed demonstrates that it is feasible to conduct a more detailed study of the health impact on the American population as a result of exposure to radioactive fallout from the testing of nuclear weapons in the United States and abroad.

However, significant resources would be required to implement this project, and careful consideration should be given to public health priorities before embarking on this path. To assist in the process of deciding about future fallout-related work, this report contains five different options for consideration.

DATES: To be considered, comments on this draft Technical Report must be received August 13, 2002. Comments received after the close of the public comment period will be considered at the discretion of CDC on the basis of what is deemed to be in the best interest of the general public.

ADDRESSES: Requests for copies of the draft Technical Report should be sent to the Radiation Studies Branch, Division of Environmental Hazards and Health Effects, National Center for Environmental Health, Centers for Disease Control and Prevention, Mail Stop E-39, 1600 Clifton Road, NE, Atlanta, Georgia 30333, telephone (404) 498-1800, e-mail NTS and Global Fallout Report@cdc.gov. Written comments regarding the draft Technical Report should be sent to the same address. Because of its large size, CDC reserves the right to provide only one copy of the draft Technical Report free of charge to a requester. The document may also be accessed via the Internet at http://www.cdc.gov/nceh/radiation/default.htm.

Written comments submitted in response to this notice should bear the title of the report, “A Feasibility Study of the Health Consequences to the American Population of Nuclear Weapons Tests Conducted by the United States and Other Nations.” Because all public comments regarding this draft Technical Report will be available for inspection, no confidential business information or personal medical information should be submitted in response to this notice.

FOR FURTHER INFORMATION CONTACT: Radiation Studies Branch, Division of Environmental Hazards and Health Effects, National Center for Environmental Health, Centers for Disease Control and Prevention, Mail Stop E-39, 1600 Clifton Road, NE, Atlanta, Georgia 30333.

SUPPLEMENTARY INFORMATION: Before 1963, the United States and other countries tested more than 500 nuclear weapons in the atmosphere. Each of these tests inserted radioactive debris, commonly known as fallout, into the atmosphere. Depending on the size and type of weapon detonated, some of this fallout traveled great distances before depositing on the earth and exposing people to radiation. Any person living in the contiguous United States since 1951 has been exposed to radioactive fallout, and all organs and tissues of the body have received some radiation exposure. On the basis of the preliminary estimates of dose and risk developed in this feasibility study, fallout radiation appears to have the greatest impact on risks for thyroid tumors. Risks for leukemia would be lower. Risk for cancers of other organs or tissues could be assessed as well, but because of the smaller amount of information available about radiation-associated health effects and the lower doses to most organs, the uncertainties associated with these estimates would be extremely large.

Dated: April 8, 2002.
Joseph R. Carter,
Associate Director for Management and Operations, Centers for Disease Control and Prevention (CDC).

[FR Doc. 02-9011 Filed 4-12-02; 8:45 am]

BILLING CODE 4163-18-P